DEPARTMENT OF HEALTH AND HUMAN SERVICES

Centers for Disease Control and Prevention

[Docket No. CDC-2017-0068, NIOSH-299]

Draft National Occupational Research Agenda for Cancer, Reproductive, Cardiovascular and Other Chronic Disease Prevention

AGENCY: National Institute for Occupational Safety and Health (NIOSH), Centers for Disease Control and Prevention (CDC), Department of Health and Human Services (HHS).

ACTION: Request for comments.

SUMMARY: As steward of the National Occupational Research Agenda (NORA), the National Institute for Occupational Safety and Health of the Centers for Disease Control and Prevention announces the availability of the draft National Occupational Research Agenda for Cancer, Reproductive, Cardiovascular and Other Chronic Disease Prevention Agenda for public comment. Written by the NORA Cancer, Reproductive, Cardiovascular and Other Chronic Disease Prevention Cross-Sector Council, the Agenda identifies the most important occupational safety and health research needs for the next decade, 2016-2026. A copy of the draft Agenda is available at http://www.regulations.gov (search Docket Number CDC-2017-0068).

DATES: Electronic or written comments must be received by October 10, 2017.

ADDRESSES: You may submit comments, identified by Docket No. CDC-2017-0068 and docket number NIOSH-299, by any of the following methods:

• Federal eRulemaking Portal: http://www.regulations.gov. Follow the instructions for submitting comments.

• Mail: National Institute for Occupational Safety and Health, NIOSH Docket Office, 1090 Tusculum Avenue, MS C-34, Cincinnati, Ohio 45226-1998.

Instructions: All submissions received must include the agency name and Docket Number [CDC-2017-0068; NIOSH-299]. All relevant comments received will be posted without change to http://regulations.gov, including any personal information provided. For access to the docket to read background documents or comments received, go to http://www.regulations.gov.

FOR FURTHER INFORMATION CONTACT: Emily Novicki (NORACoordinator@cdc.gov), National Institute for Occupational Safety and Health, Centers for Disease Control and Prevention, Mailstop E-20, 1600 Clifton Road NE., Atlanta, GA 30329.

SUPPLEMENTARY INFORMATION: The National Occupational Research Agenda (NORA) is a partnership program created to stimulate innovative research and improved workplace practices. The national agenda is developed and implemented through the NORA sector and cross-sector councils. Each council develops and maintains an agenda for its sector or cross-sector. The National Occupational Research Agenda for Cancer, Reproductive, Cardiovascular and other Chronic Disease Prevention (CRC) is intended to identify the research, information, and actions most urgently needed to prevent occupational cancer, adverse reproductive outcomes and cardiovascular disease. The National Occupational Research Agenda for CRC provides a vehicle for industry stakeholders to describe the most relevant issues, gaps, and safety and health needs for the sector. It is meant to be broader than any one agency or organization. It is a strategic plan for the entire country and all of its research and development entities, whether government, higher education, or industry.

This is the first CRC Agenda, developed for the third decade of NORA (2016-2026). The agenda was developed considering new information about injuries and illnesses, the state of the science, and the probability that new information and approaches will make a difference.

As the steward of the NORA process, NIOSH invites comments on the draft National Occupational Research Agenda for CRC. A copy of the draft Agenda is available at http://www.regulations.gov (see Docket Number CDC-2017-0068, NIOSH-299).

John Howard,
Director, National Institute for Occupational Safety and Health, Centers for Disease Control and Prevention.

[FR Doc. 2017-16801 Filed 8-8-17; 8:45 am]

BILLING CODE 4163-18-P